DEPARTMENT OF AGRICULTURE

Forest Service

Dalton Mountain Forest Restoration and Fuels Reduction EIS—Helena-Lewis and Clark National Forest, Lewis and Clark County, Montana

AGENCY: Forest Service, USDA.

ACTION: Withdrawal of Notice of Intent to prepare an Environmental Impact Statement.

SUMMARY: The USDA Forest Service is withdrawing the Notice of Intent to prepare an Environmental Impact Statement for the Dalton Mountain Forest Restoration and Fuels Reduction project on the Lincoln Ranger District of the Helena-Lewis and Clark National Forest. A Notice of Intent to prepare an Environmental Impact Statement was published in the Federal Register on November 16, 2011 (pages 70955-70956)

FOR FURTHER INFORMATION CONTACT: Jennifer Woods, Helena-Lewis and Clark National Forest, 1220 38th Street North, Great Falls, Montana 59405, (406) 791-7765.

Dated: September 14, 2016.
William Avey,
Forest Supervisor, Helena-Lewis and Clark National Forest.

[FR Doc. 2016-22780 Filed 9-22-16; 8:45 am]

BILLING CODE 3410-11-P